ENVIRONMENTAL PROTECTION AGENCY

[EPA-HQ-OAR-2021-0110; FRL-9586-01-OMS]

Information Collection Request Submitted to OMB for Review and Approval; Comment Request; NESHAP for Coke Oven Pushing, Quenching, and Battery Stacks (Renewal)

AGENCY: Environmental Protection Agency (EPA).

ACTION: Notice.

SUMMARY: The Environmental Protection Agency (EPA) has submitted an information collection request (ICR), NESHAP for Coke Oven Pushing, Quenching, and Battery Stacks (EPA ICR Number 1995.08, OMB Control Number 2060-0521), to the Office of Management and Budget (OMB) for review and approval in accordance with the Paperwork Reduction Act. This is a proposed extension of the ICR, which is currently approved through April 30, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently-valid OMB control number.

DATES: Additional comments may be submitted on or before March 31, 2022.

ADDRESSES: Submit your comments, referencing Docket ID Number EPA-HQ-OAR-2021-0110, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Coke Oven Pushing, Quenching, and Battery Stacks (40 CFR part 63, subpart CCCCC) were proposed on July 3, 2001 (66 FR 35325); promulgated on April 14, 2003 (68 FR 18007); and most-recently amended on August 2, 2005 (70 FR 44285). These regulations apply to pushing, soaking, quenching, and battery stacks on both existing and new coke oven batteries (coke plants) that are major sources of hazardous air pollutant (HAP) emissions. New facilities include those that commenced either construction or reconstruction after the date of proposal. This information is being collected to assure compliance with 40 CFR part 63, subpart CCCCC.

Form Numbers: None.

Respondents/affected entities: Coke manufacturing facilities.

Respondent's obligation to respond: Mandatory (40 CFR part 63, subpart CCCCC).

Estimated number of respondents: 14 (total).

Frequency of response: Quarterly and semiannually.

Total estimated burden: 23,900 hours (per year). Burden is defined at 5 CFR 1320.3(b).

Total estimated cost: $2,950,000 (per year), which includes $125,000 in annualized capital/startup and/or operation & maintenance costs.

Changes in the Estimates: The decrease in burden from the most-recently approved ICR is due to a decrease in the number of sources. There is an adjustment decrease in labor hours from the most-recently approved ICR. This decrease reflects revisions to the number of existing respondents that are anticipated to reconstruct or close batteries subject to this standard. This decrease is not due to any program changes. Since there are no changes in the regulatory requirements and there is no significant industry growth, there are also no changes in the capital/startup and/or operation and maintenance (O&M) costs.

Courtney Kerwin,
Director, Regulatory Support Division.

[FR Doc. 2022-04193 Filed 2-28-22; 8:45 am]

BILLING CODE 6560-50-P